DEPARTMENT OF VETERANS AFFAIRS

Enhanced-Use Lease (EUL) of Department of Veterans Affairs (VA) Real Property for the Development of a Senior Living Retirement and Affordable Housing Community in Fort Howard, MD

AGENCY: Department of Veterans Affairs.

ACTION: Notice of Intent to Enter into an Enhanced-Use Lease.

SUMMARY: The Secretary of VA intends to enter into an EUL for 94 acres of land and thirty-seven (37) buildings at the Fort Howard VA Campus in Fort Howard, Maryland. The selected lessee will finance, design, renovate, construct, manage, maintain and operate the EUL development. As consideration for the lease, the lessee will be required to provide a new community-based outpatient clinic, profit sharing, and discounted rent to Veterans residing in the senior living retirement and affordable housing community. Fifty units will be set aside to provide transitional housing and supportive services for homeless and at-risk Veterans.

FOR FURTHER INFORMATION CONTACT: Edward L. Bradley, III, Office of Asset Enterprise Management (044), Department of Veterans Affairs, 810 Vermont Avenue, NW., Washington, DC 20420. Telephone: (202) 461-7778 (this is not a toll-free number).

SUPPLEMENTARY INFORMATION: Title 38 U.S.C. 8161 et seq. states that the Secretary may enter into an enhanced-use lease if he determines that implementation of a business plan proposed by the Under Secretary for Health for applying the consideration under such a lease for the provision of medical care and services would result in a demonstrable improvement of services to eligible Veterans in the geographic service-delivery area within which the property is located. This project meets this requirement.

Approved: September 26, 2011.
Eric K. Shinseki,
Secretary of Veterans Affairs.

[FR Doc. 2011-25366 Filed 9-30-11; 8:45 am]

BILLING CODE P